DEPARTMENT OF ENERGY

Office of Energy Efficiency and Renewable Energy

Notice of Meeting on DOE Wind Energy Environmental Research Strategy

AGENCY: Wind and Water Power Technologies Office, Office of Energy Efficiency and Renewable Energy, Department of Energy.

ACTION: Notice of Meeting on DOE Wind Energy Environmental Research Strategy.

SUMMARY: The Wind and Water Power Technologies Office (“WWPTO”) within the U.S. Department of Energy (DOE) intends to hold a meeting to seek input on its draft wind energy environmental research strategy on June 24, 2016 from 8:30 a.m. to 12:30 p.m. in Boulder, Colorado at the National Renewable Energy Laboratory's (“NREL”) National Wind Technology Center (“NWTC”). At this meeting, the WWPTO will seek input on wind energy near-term and long-term environmental research priorities needed to help enable the sustainable development of wind energy technologies in the United States.

DATES: NREL will host the meeting from 8:30 a.m. to 12:30 p.m. on Friday, June 24, 2016.

ADDRESSES: The meeting will be held at the National Wind Technology Center, 18200 CO-128, Boulder, CO 80303.

FOR FURTHER INFORMATION CONTACT: Jocelyn Brown-Saracino, Office of Energy Efficiency and Renewable Energy, U.S. Department of Energy, 1000 Independence Ave SW., Washington, DC 20585. Telephone: (202) 287-6097. Email: WindEnviroStrategy@ee.doe.gov.

SUPPLEMENTARY INFORMATION:

Background

The Office of Energy Efficiency and Renewable Energy accelerates development and deployment of energy efficiency and renewable energy technologies and market-based solutions that strengthen U.S. energy security, environmental quality, and economic vitality. The Wind Program supports environmentally sustainable development of wind power and invests in projects that seek to understand and mitigate the impacts of wind energy on wildlife and to address other siting issues.

The Wind Program is hosting a meeting to seek input on its draft 5 to 15 year wind energy environmental research strategy. Specifically, the purpose of this meeting is to seek individual input on near-term and long-term wind energy environmental research priorities. The Program will also seek input on how the draft plan aligns with and complements the current and future research goals and plans of other individuals and relevant organizations.

Participants will include stakeholders from the wind energy environmental community, including but not limited to wind plant developers/operators, wildlife regulatory agencies, environmental consultants/researchers, and NGOs.

Public Participation

While this meeting is open to the public, seating is limited and will be provided on a first-come-first-served basis. Individuals wishing to participate must submit a registration request to WindEnviroStrategy@ee.doe.gov. DOE will also accept public comments for purposes of better understanding stakeholder's research priorities relating to understanding, avoiding, minimizing, mitigating, and compensating for wildlife impacts from wind power. These comments may be submitted at WindEnviroStrategy@ee.doe.gov.

Participants should limit information and comments to those based on personal experience, individual advice, information, or facts regarding this topic. It is not the object of this meeting to obtain any group position or consensus from participants. To most effectively use the limited time, please refrain from passing judgment on another participant's recommendations or advice, and instead, concentrate on your individual experiences.

Following the meeting, a summary will be compiled by DOE and posted to wind.energy.gov for public review. Those interested in providing additional comments may do so by emailing WindEnviroStrategy@ee.doe.gov.

Issued on May 25, 2016 in Washington, DC.
Hoyt Battey,
Acting Director, Wind and Water Power Technologies Office, Office of Energy Efficiency and Renewable Energy.

[FR Doc. 2016-12870 Filed 5-31-16; 8:45 am]

BILLING CODE 6450-01-P